DEPARTMENT OF THE INTERIOR

National Park Service

[NPS-WASO-NAGPRA-16411; PPWOCRADN0-PCU00RP14.R50000]

Notice of Inventory Completion: Arizona State Museum, University of Arizona, Tucson, AZ

AGENCY: National Park Service, Interior.

ACTION: Notice.

SUMMARY: The Arizona State Museum, University of Arizona, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Arizona State Museum, University of Arizona. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Arizona State Museum at the address in this notice by October 10, 2014.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3003, of the completion of an inventory of human remains and associated funerary objects under the control of the Arizona State Museum (ASM), University of Arizona, Tucson, AZ. The human remains and associated funerary objects were removed from Pima County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the ASM professional staff in consultation with representatives of the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico.

History and Description of the Remains

In 1959, human remains representing, at minimum, three individuals were removed from a wash at an unrecorded archeological site, AZ AA:12:—1009, in Pima County, AZ. The human remains and associated funerary objects were donated by the excavator to ASM and were assigned an accession number. No known individuals were identified. The nine associated funerary objects are two animal bones, two ceramic jars, one ceramic sherd, two chipped stones, one chipped stone flake, and one shell bracelet fragment. The site is located within the Tucson Basin. No further information about the context of the discovery is available. The human remains likely date to the Hohokam Classic period, A.D. 1150-1450, based on the ceramic typology.

In 1975, human remains representing, at minimum, one individual were removed from an unrecorded site, AZ AA:12:—Avra Valley, located on privately-owned land in Pima County, AZ. The burial was inadvertently discovered and the human remains and associated funerary objects were removed by ASM under the direction of Emil Haury at the request of the landowner. The collection was subsequently brought to ASM and assigned an accession number. No known individuals were identified. The two associated funerary objects are one ceramic bowl and one ceramic jar. The unnamed site in the Avra Valley appears to be a large village site, and the human remains removed from the site likely date to the Hohokam Classic period, A.D. 1150-1450, based on the ceramic typology.

Between 1968 and 1970, human remains representing, at minimum, one individual were removed by an unknown individual from an unknown site, AZ AA:12:—Cortaro Farms, in Pima County, AZ. The human remains were received by ASM in 1996 as an anonymous donation. A note with the human remains stated the years of collection and gave the location as “Cortaro.” This location may be related to a site named Los Morteros, AZ AA:12:57(ASM). No known individuals were identified. No associated funerary objects are present. Based on the possible relationship with Los Morteros, the human remains likely date to the Hohokam period, A.D. 500-1450.

In 1997, human remains representing, at minimum, one individual were removed from a private residence from an unrecorded site, AZ AA:12:—Rillito, in Pima County, AZ. The legally authorized excavation was conducted by ASM under the direction of Thomas Mulinski. The human remains were brought to ASM but were not assigned an accession number. No known individuals were identified. No associated funerary objects are present. The location where the human remains were found is in the vicinity of Los Morteros, AZ AA:12:57(ASM). Based on the possible relationship with Los Morteros, the human remains likely date to the Hohokam period, A.D. 500-1450.

In 1968 and 1969, human remains representing, at minimum, two individuals were removed from an unrecorded site, AZ AA:12:—Tucson Site 14, at a privately-owned trailer park on Romero Road in Pima County, AZ. The legally authorized excavations were conducted by ASM under the direction of James Ayres and Walter Birkby. The archeological collections were brought to ASM and accessioned. No known individuals were identified. The four associated funerary objects are four chipped stone flakes. Field notes mention the presence of sherds that were not collected. On this basis, the burials are likely dated to the period A.D. 200-1450, which encompasses the Early Ceramic and Hohokam periods.

In 1968, human remains representing, at minimum, one individual were removed from an unrecorded site, AZ AA:12:—Romero Road, in Pima County, AZ. No accession information was found in museum records, but it is likely that these human remains are from the excavations conducted by James Ayres and Walter Birkby at AZ AA:12:—Tucson Site 14. No known individuals were identified. No associated funerary objects are present. Based on association with AZ AA:12:—Tucson Site 14, the human remains likely date to the ceramic period, A.D. 200-1450.

In the years 1936-1938 and in 1985, human remains representing, at minimum, 47 individuals were removed from the Hodges Site, AZ AA:12:18(ASM), in Tucson, Pima County, AZ. The legally authorized excavations in 1936-1938 were conducted by the Gila Pueblo Archaeological Foundation under the direction of Carl Miller and Isabel Kelly. At the end of the excavations, the collections were brought to the Gila Pueblo Archaeological Foundation in Globe, AZ. In 1944, these archeological collections were transferred to ASM. The legally authorized excavations in 1985 were conducted by the Cultural Resource Management Division of ASM under the direction of Robert W. Layhe. At the end of these excavations, the archeological collections were brought to ASM and accessioned. No known individuals were identified. The 756 associated funerary objects are 167 animal bones, 3 bone artifacts, 8 ceramic bowls, 1 ceramic disk, 6 ceramic jars, 1 ceramic jar fragment, 2 ceramic pitchers, 1 ceramic scoop, 272 ceramic sherds, 2 lots of charcoal, 10 chipped stones, 6 pieces of chipped stone debris, 2 crystals, 2 flotation fraction lots, 1 flotation sample, 2 ground stones, 1 pollen sample, 2 shells, 5 lots of shell beads, 2 shell bracelets, 99 shell bracelet fragments, 1 shell fragment, 1 shell pendant, 3 shell pendant fragments, 3 soil samples, 118 stones, 3 stone artifacts, 4 stone bowls, 3 stone palettes, 1 stone pendant, 23 stone projectile points, and 1 unidentified object. Hodges Ruin was a large Hohokam village that was occupied from the Tortolita phase to Tanque Verde phase (A.D. 350-1300) based on ceramic typologies.

In 1973, human remains representing, at minimum, one individual were removed from the El Rancho Chaparral site, AZ AA:12:31(ASM), in Tucson, AZ. The human remains were inadvertently discovered near a house and the landowner requested the assistance of ASM. The legally authorized excavations were conducted under the direction of Sharon Urban and Gayle Hartman. The collection was subsequently brought to ASM, but no accession number was assigned. No known individuals were identified. No associated funerary objects are present. The El Rancho Chaparral site is a large prehistoric artifact scatter measuring more than 40 acres in area. The site likely dates to the Hohokam Classic period, A.D. 1150-1450, based on ceramic typologies of sherds found near the human remains that were described but not collected.

In 1969 and in 1988-1989, human remains representing, at minimum, 80 individuals were removed from Rabid Ruin, AZ AA:12:46(ASM), in Pima County, AZ. The legally authorized excavations in 1969 were conducted by ASM under the direction of Laurens Hammack. The legally authorized excavations in 1988-1989 were conducted by Culture and Environmental Systems under the direction of Laurie Slawson. The later excavations were the more extensive of the two projects and were undertaken to mitigate impacts prior to the placement of sewer and water lines through the site. Following completion of each excavation, the archeological collections were brought to ASM and assigned an accession number. No known individuals were identified. The 1,895 associated funerary objects are 37 animal bones, 1 lot of beads (unknown material), 4 bone artifacts, 3 bone awls, 40 bone awl fragments, 2 bone whistles, 35 lots of botanical material, 23 ceramic bowls, 36 ceramic bowl fragments, 2 ceramic disks, 13 ceramic jars, 34 ceramic jar fragments, 1 ceramic ladle, 16 ceramic pitchers, 2 ceramic scoops, 1,262 ceramic sherds, 1 ceramic sherd artifact, 1 ceramic vessel, 8 lots of charcoal, 38 chipped stones, 1 piece of chipped stone debris, 3 chipped stone flakes, 1 chipped stone knife, 1 chipped stone scraper, 1 chipped stone tool, 4 clay fragments, 1 crystal, 1 daub fragment, 3 ground stones, 2 metallic cylinders, 13 mineral fragments, 1 lot of organic material, 2 pebbles, 2 lots of plant fiber matting, 4 pollen samples, 3 shells, 18 lots of shell and stone beads, 18 shell artifacts, 23 shell artifact fragments, 48 lots of shell beads, 4 shell bracelets, 8 shell bracelet fragments, 31 shell fragments, 5 shell pendants, 1 shell pendant fragment, 2 soil samples, 7 stones, 2 stone balls, 3 lots of stone beads, 2 stone cylinders, 1 stone disk, 1 stone pendant, 79 stone projectile points, 2 stone projectile point fragments, 4 lots of textile cord, 7 lots of textile fragments, 1 turquoise tessera, and 26 wood fragments. The Rabid Ruin was a Hohokam multi-component village site located on the west bank of the Santa Cruz River on the grounds of the Pima County Animal Control Center (formerly the Rabies Control Center). Based on artifact and ceramic typologies, the site was occupied from the Archaic period through the prehistoric-historic transition, (8000 B.C.-A.D. 1500/1700). The principal site component is a cemetery with a large number of primary and secondary cremations, which dates to the Hohokam Classic period (A.D. 1150-1450), and the human remains are primarily from this period.

In 1979-1983 and in 1987-1988, human remains representing, at minimum, 229 individuals were removed from Los Morteros, AZ AA:12:57(ASM), in Pima County, AZ. The legally authorized excavations were conducted in 1979-1983 by ASM under the direction of Richard Lange and William Deaver, and in a separate project in 1987-1988 by the Institute for American Research under the direction of Mary Bernard-Shaw. Following completion of each excavation, the archeological collections were brought to ASM and assigned an accession number. No known individuals were identified. The 2,460 associated funerary objects are 174 animal bones, 3 lots of beads (unidentified material), 5 bird bones, 10 bone awls, 9 lots of botanical materials, 10 ceramic bowls, 23 ceramic bowl fragments, 7 ceramic jars, 2 ceramic scoops, 1,109 ceramic sherds, 2 ceramic sherd artifacts, 29 ceramic vessels, 56 lots of charcoal, 180 chipped stones, 1 chipped stone flake, 3 clay fragments, 13 daub fragments, 23 flotation fraction lots, 48 flotation samples, 33 ground stones, 2 metates, 4 mineral fragments, 6 lots of organic material, 33 pollen samples, 509 shell fragments, 1 lot of shell and stone beads, 3 shell artifacts, 31 shell artifact fragments, 10 lots of shell beads, 1 shell bracelet, 1 shell bracelet fragment, 19 shell necklace fragments, 9 shell pendants, 15 shell rings, 39 soil samples, 7 stones, 6 stone artifacts, 10 lots of stone beads, 7 stone palette fragments, 5 textile fragments, 1 turquoise bead, and 1 unidentified object. Los Morteros is a large, multi-component village site and the center of an extended community of related sites bordering the Santa Cruz River. The site contained a large ball court, a fortified hillside village, large mounds, stone house foundations, an adobe-walled compound enclosure, and acres of artifact scatter. Occupation at the site began during the Late Archaic/Early Agricultural period, but the most intensive period of occupation was during the Tanque Verde phase of the Hohokam Classic period, from about A.D. 1150 to 1300. Based on the associated funerary object typologies, most of the human remains are likely associated with this latter period.

In 1964, human remains representing, at minimum, one individual were removed from an unnamed site, AZ AA:12:59(ASM), located on private land in Pima County, AZ. The burial was inadvertently discovered by children in an eroded riverbank. The legally authorized excavations were conducted by ASM under the direction of E. Lewitt and A. Johnson. Following the excavation, the collection was brought to ASM and assigned an accession number. No known individuals were identified. The 29 associated funerary objects are 4 animal bones and 25 corn kernels. Site AZ AA:12:59(ASM) is described as a Hohokam village site. Based on ceramic typologies, the site is associated with the Hohokam Classic period (A.D. 1150-1450).

In 1973 and from 1980-1985, human remains representing, at minimum, 10 individuals were removed from the Huntington Site, AZ AA:12:73(ASM), in Pima County, AZ. The human remains removed in 1973 were excavated at the landowner's request by ASM under the direction of Bruce Huckell. The collection was subsequently brought to ASM but no accession number was assigned. The human remains removed in the years 1980 to 1985 were collected during the Northern Tucson Basin Survey conducted by ASM under the direction of John Madsen and Paul Fish. The archeological collections from the survey were brought to ASM but were not accessioned. In 2010, ASM staff found fragmentary human remains from the site in the survey boxes. No known individuals were identified. No associated funerary objects are present. The Huntington site was a prehistoric settlement and dates to the Early to Middle Rincon phases of the Hohokam cultural sequence (A.D. 950-1150) based on ceramic typologies as well as archaeomagnetic and radiocarbon dating and local stratigraphy. The human remains appear to be associated with this period.

In 1972 and 1981, human remains representing, at minimum, three individuals were removed from the Arizona Ranch School Site, AZ AA:12:85(ASM), in Pima County, AZ. The human remains removed in 1972 were discovered inadvertently during building construction. The legally authorized excavations were conducted by ASM under the direction of J. Ayres and R. Windhiller. These human remains were subsequently brought to ASM but no accession number was assigned. The human remains removed in 1981 were discovered in an eroded riverbank at the same site. The legally authorized excavation of these remains was conducted for the City of Tucson by Archaeological Resources under the direction of Geroge Shott. This collection was subsequently brought to ASM and was assigned an accession number. No known individuals were identified. No associated funerary objects are present. The Arizona Ranch School Site is a multi-component village site with the primary occupation estimated to have been during the Hohokam Tanque Verde phase, approximately A.D. 1150-1300.

In 1975, human remains representing, at minimum, three individuals were removed from an unnamed site referred to as Gravel Pit 6117, AZ AA:12:88(ASM), in Pima County, AZ. The legally authorized excavations were conducted by ASM under the direction of Thomas Mulinski. The archeological collections were brought to ASM and assigned an accession number. No known individuals were identified. The two associated funerary objects are one bone awl and one ceramic bowl. Site AZ AA:12:88(ASM) is located close to Los Morteros, AZ AA:12:57(ASM). The area has been badly disturbed by gravel mining activities. Ceramic typologies at the site place it within the Hohokam pre-Classic and Classic Periods (A.D. 800-A.D. 1450).

In 1959, human remains representing, at minimum, four individuals were removed from the Wetlands site AZ AA:12:90(ASM). The legally authorized excavations were conducted by ASM under the direction of William W. Wasley, following the inadvertent find of prehistoric human remains during construction at the Tucson Sewage Disposal Plant. The archeological collections were brought to ASM and assigned an accession number. No known individuals were identified. The one associated funerary object is a ceramic jar. The Wetlands Site is a multicomponent site, and the cremation dates to Hohokam Pre-Classic Rillito to Rincon phases (A.D. 1000-1300) based on the ceramic typology of the jar that contained the cremated human remains.

In 1986, 1991, and from 1995-1996, human remains representing, at minimum, eight individuals were removed from Los Pozos AZ AA:12:91(ASM), Pima County, AZ. Legally authorized excavations in 1986 and 1991 were conducted by Desert Archaeology, Inc. under the direction of Bruce Huckell. In 1995-1996, legally authorized excavations were conducted by Desert Archaeology, Inc. under the direction of David Gregory. At the end of excavations, the archeological collections were brought to ASM and assigned accession numbers. No known individuals were identified. The 54 associated funerary objects are 4 animal bones, 31 ceramic sherds, 16 chipped stones, and 3 soil samples. The Los Pozos site is a multi-component habitation site, and the major occupation is associated with the Cienega Phase of the Early Agricultural period (800 B.C.-A.D. 200). A radiocarbon date of A.D. 200 was obtained from the feature associated with Burial 1.

In 1979, human remains representing at minimum one individual were removed from the Las Capas site, AZ AA:12:111(ASM), in Pima County, AZ. The legally authorized survey was conducted by ASM under the direction of Lisa Huckell and Bruce Huckell as part of the Tucson Urban Study Survey. Human remains were not reported at the time of the survey. The archeological collections were brought to ASM but there are no accession records. In 2010, human remains from Las Capas were found in the site survey collections. No known individuals were identified. No associated funerary objects are present. Las Capas is a multiple component large village site, but the features associated with human remains all date to the San Pedro Phase of the Late Archaic/Early Agricultural Period, approximately 1500-800 B.C.

In 1981 and 1983, human remains representing, at minimum, three individuals were removed from the Chicken Ranch site, AZ AA:12:118(ASM) in Pima County, AZ. The legally authorized excavations were conducted by ASM under the direction of John Madsen. Archeological collections were brought to ASM at the conclusion of the excavations and were assigned an accession number. No known individuals were identified. The 24 associated funerary objects are 10 animal bones, 6 ceramic bowl fragments, 7 ceramic sherds, and 1 chipped stone tool. The Chicken Ranch site was a small village that contained trash mounds, large depressions, a possible canal, cremations, and several unidentified features. Based on associated artifacts the human remains date to the Hohokam Classic period, A.D. 1150-1450.

In 1987, human remains representing, at minimum, 11 individuals were removed from the Lonetree site, AZ AA:12:120(ASM) in Pima County, AZ. The legally authorized excavations were conducted by the Institute of American Research under the direction of Mary Bernard-Shaw for the American Continental Corporation. Archeological collections were brought to ASM at the conclusion of the excavations and were assigned an accession number. No known individuals were identified. The 105 associated funerary objects include 73 animal bones, 4 bone awls, 7 ceramic sherds, 1 ceramic vessel, 1 lot of charcoal, 15 chipped stones, 1 ground stone, 1 mineral, and 2 soil samples. The Lonetree Site was identified as a multicomponent site occupied during the Hohokam Pioneer period, A.D. 550-650, the Hohokam Sedentary period, A.D. 940-1150, and during the historical period. The human remains were associated with the prehistoric components of the site.

In 1988, human remains representing, at minimum, two individuals were removed from the Pepper Tree Farms site, AZ AA:12:146(ASM), in Pima County, AZ. The legally authorized excavations were conducted by the Institute of American Research under the direction of Henry D. Wallace and Allen Dart for the Pepper Tree Farms Development project. In 1990, the collections were brought to ASM and were assigned an accession number. No known individuals were identified. The 24 associated funerary objects are 24 ceramic sherds. The Pepper Tree Farms site is described as an artifact scatter belonging to the Hohokam Rillito and Rincon Phase A.D. 800-1150, based on the ceramic typologies from the surrounding site.

In the years 1981 to 1987, human remains representing, at minimum, 53 individuals were removed from the Redtail Village site, AZ AA:12:149(ASM), in Tucson, Pima County, AZ. The legally authorized test excavations were conducted by the Arizona Archaeological and Historical Society (AAHS) under the direction of W.D. Hohmann in 1981. A second phase of excavations was conducted in 1983-1987 by the Institute of American Research under the direction of Mary Bernard-Shaw. In 1995, the collections from the Arizona Archaeological and Historical Society excavations were loaned to ASM for a NAGPRA inventory and were later assigned an accession number. Archeological collections from the Institute of American Research excavations were brought to ASM at a later date and assigned a separate accession number. No known individuals were identified. The 908 associated funerary objects are 51 animal bones, 2 ceramic bowls, 2 ceramic jars, 1 ceramic scoop, 670 sherds, 5 lots of charcoal, 72 chipped stones, 79 flotation fraction lots, 2 ground stones, 1 metate, 5 pollen samples, 3 shells, 2 stone projectile points, and 13 turquoise fragments. The Redtail Village site is a large multi-component site including a cemetery and plaza with multiple burials. While there is evidence at the site of earlier and later occupations, Redtail Village was occupied for the greater part of the Hohokam Colonial period, and was most intensively occupied between A.D. 750-850, based on ceramic typologies.

In 1996, human remains representing, at minimum, three individuals were removed from the Red Hawk site, AA:12:237(ASM), in Pima County, AZ. The legally authorized survey and test excavations were conducted by Desert Archaeology, Inc. under the direction of Deborah Swartz. No human burials were recorded at the time of the excavations, but fragmentary human remains were later identified. Archeological collections from the project were received by ASM in 1998 and were assigned an accession number. No known individuals were identified. No associated funerary objects are present. The Red Hawk site is described as a moderately dense artifact scatter with a bedrock mortar and a rock overhang that likely dates from the Late Archaic/Early Agricultural to the Hohokam Classic Period, 2000 B.C.-A.D. 1450, based on artifacts found at the site.

In the years 1984 to 2004, human remains representing, at minimum, 53 individuals were removed from the Marana Platform Mound site, AZ AA:12:251(ASM) in Pima County, AZ. The legally authorized excavations were conducted by the University of Arizona under the direction of Paul Fish and Suzanne Fish as a series of archeological field schools. The collections were brought to ASM at the end of each field season but were not assigned an accession number. No known individuals were identified. The 672 associated funerary objects are 31 animal bones, 1 ceramic bowl, 601 ceramic sherds, 1 ceramic vessel, 1 lot of charcoal, 30 chipped stones, 1 shell, 4 lots of shell beads, 1 stone palette fragment, and 1 stone projectile point. The Marana Platform Mound site is considered a large Hohokam habitation area and regional center. The most prominent features include adobe-walled compounds and a platform mound. Based on ceramic typologies, the site dates to the Hohokam Classic Period, A.D. 1150-A.D. 1450, and it appears that the site was most heavily occupied during the Hohokam Tanque Verde phase, A.D. 1150-1300.

In 1985, human remains representing, at minimum, nine individuals were removed from the Dairy Site AZ, AA:12:285(ASM), in Pima County, AZ. The legally authorized excavations were conducted by ASM under the direction of John Madsen. The collections were brought to ASM at the end of the field season but no accession number was assigned. No known individuals were identified. The 143 associated funerary objects are 2 animal bones, 2 lots of botanical material, 126 ceramic sherds, 1 lot of charcoal, 11 chipped stones, and 1 hammerstone. The Dairy Site is a multi-component site, including Late Archaic through Historical period occupations (2000 B.C.-A.D. 1950). However, the majority of the occupation is associated with the Late Archaic through Early Ceramic component (2000 B.C.-A.D. 400) and the burials inventoried here are likely from this time period.

In 1980-1985, human remains representing, at minimum, one individual were removed from the Yuma Wash Site, AZ AA:12:311(ASM), in Pima County, AZ. The legally authorized survey was conducted by ASM under the direction of John Madsen and Paul Fish as part of the Northern Tucson Basin Survey. No human remains were reported at the site at the time of survey. Following survey completion, the archeological collections were brought to ASM but no accession number was assigned. In 2010, ASM staff found fragmentary human remains in the site survey collections from the Yuma Wash Site. No known individuals were identified. No associated funerary objects are present. The Yuma Wash Site is a prehistoric settlement that likely dates to the Hohokam Classic Period, A.D. 1150-1450, based on the ceramic typologies.

In 1982, human remains representing, at minimum, one individual were removed from Manzanita School site, AZ AA:12:409(ASM), in Pima County, AZ. The legally authorized survey was conducted by ASM under the direction of J. Mayberry as part of the Northern Tucson Basin Survey. No human remains were reported at the time of the survey. Following survey completion, the archeological collections were brought to ASM but no accession number was assigned. In 2010, ASM staff found the human remains in site survey collections from the Manzanita School site. No known individuals were identified. No associated funerary objects are present. The survey recorded the Manzanita School site as a Tanque Verde Phase compound consisting of 18 rectangular pit houses, 22 structural/trash mounds, check dams, burned rock middens, and hearths. Based on ceramic typologies, the site was occupied during the Hohokam Classic period from A.D. 1150 to 1450.

During the years 1981 to 1989, human remains representing, at minimum, one individual were removed from an unnamed site, AZ AA:16:2(ASM), in Pima County, AZ. The legally authorized survey was conducted by ASM under the direction Gayle Hartmann as part of a land exchange survey for the Pima County Land Department. No human remains were reported at the time of the survey. Following completion, the archeological collections were brought to ASM and were assigned an accession number. In 2010, ASM staff found human remains intermingled with animal bone collections during an inventory of the survey collections. No known individuals were identified. No associated funerary objects are present.

In 1984 and 1993, human remains representing, at minimum, 86 individuals were removed from the West Branch Site, AZ AA:16:3(ASM), in Pima County, AZ. The legally authorized excavations in 1984 were conducted by the Institute for American Research under the direction of William H. Doelle and Frederick W. Huntington for the Pima County Department of Transportation. The legally authorized excavations in 1993 were conducted by Statistical Research, Inc. under the direction of Stephanie Whittlesey and Karen Harry. After the completion of both projects, the archeological collections were brought to ASM and were assigned accession numbers. No known individuals were identified. The 279 associated funerary objects are 5 ceramic bowls, 2 ceramic jars, 54 ceramic jar fragments, 154 ceramic sherds, 1 lot of charcoal, 25 chipped stones, 2 chipped stone knives, 2 flotation fraction lots, 21 flotation samples, 1 glass fragment, 1 ground stone, 1 mano, 3 mineral fragments, 2 polishing stones, 1 shell, 1 shell bracelet, 1 soil sample, and 2 stone artifacts. The West Branch site was a large prehistoric settlement area and has Middle Archaic (4800 B.C.-1500 B.C.), Late Archaic (1500 B.C.-A.D. 200), and Hohokam Pre-Classic Period (A.D. 450-1150) components. The cremations and burials found likely date to when the site was most intensively occupied during the Hohokam Pre-Classic Period (A.D. 450-1150), based on the ceramic typologies.

In 1987, human remains representing, at minimum, one individual were removed from private property in the vicinity of the West Branch Site, AZ AA:16:3 Vicinity, in Pima County, AZ. The human remains were inadvertently found by Mark Riley, and reported to the Tucson Police Department. The Tucson Police Department collected the human remains and contacted the Human Identification Laboratory at the University of Arizona. Forensic anthropologists from the laboratory determined that the human remains were prehistoric. Immediately thereafter, the human remains were brought to ASM, but were not assigned an accession number. No known individuals were identified. The three associated funerary objects are one animal bone and two ceramic sherds. This unnamed site is potentially a Hohokam sheet midden because of the lithics and the ceramic sherds found elsewhere on the private property and the site's close vicinity to the West Branch site, AZ AA:16:3(ASM). Ceramic typologies at the West Branch Site suggest the human remains may date sometime during the Hohokam period (A.D. 850-1300).

In 1967, human remains representing, at minimum two individuals were removed from a private residence from an unnamed site near South Mission Road, AZ AA:16:33(ASM), in Pima County, AZ. The cremations were inadvertently discovered by James Sphar while digging a sewer trench on his property. The collections were transferred to ASM and assigned an accession number. No known individuals were identified. The 12 associated funerary objects are 1 animal bone, 1 bone awl, 1 ceramic bowl, 2 ceramic jars, 1 ceramic jar fragment, 4 ceramic sherds, and 2 manos. The site is likely part of a Hohokam village site, AZ AA:16:49(ASM), a multi-component site located on a terrace remnant above the west bank of the West Branch of the Santa Cruz River. Ceramic typologies of the associated funerary objects indicate the human remains likely date from the Hohokam Snaketown to Tanque Verde phases (A.D. 700-1300).

Prehistoric settlements in the Tucson Basin of southern Arizona are characterized by archeologists as belonging to two distinctive and consecutive cultural traditions beginning with the Late Archaic/Early Agricultural period and concluding with the Hohokam period. Recent archeological investigations have added support to the hypothesis that the Hohokam tradition arose from the earlier horizon, based on continuities in settlement pattern, architectural technologies, irrigation technologies, subsistence patterns, and material culture. It has been difficult for archeologists to date the beginning of the Hohokam period because the appearance of its distinctive cultural traits, including ceramic technologies and mortuary patterns was a gradual process spanning several hundred years. This adds further support to the hypothesis that the Hohokam tradition evolved in place from earlier Late Archaic traditions. Linguistic evidence furthermore suggests that the Hohokam tradition was multiethnic in nature.

Cultural continuity between these prehistoric occupants of the Tucson Basin and present day O'odham peoples is supported by continuities in settlement pattern, architectural technologies, basketry, textiles, ceramic technology, and ritual practices. Oral traditions that are documented for the Ak Chin Indian Community of the Maricopa (Ak Chin) Indian Reservation, Arizona; Gila River Indian Community of the Gila River Indian Reservation, Arizona; Salt River Pima-Maricopa Indian Community of the Salt River Reservation, Arizona; and the Tohono O'odham Nation of Arizona support cultural affiliation with Late Archaic/Early Agricultural period and Hohokam sites in southern Arizona.

Oral traditions that are documented for the Hopi Tribe also support cultural affiliation with Late Archaic/Early Agricultural period and Hohokam sites in the region. Several Hopi clans and religious societies are derived from ancestors who migrated from the south and likely identified with the Hohokam tradition.

Oral traditions of medicine societies and kiva groups of the Zuni Tribe recount migration from distant portions of the Southwest to present day Zuni and supports affiliation with Hohokam and Late Archaic traditions. Historical linguistic analysis also suggests interaction between ancestral Zuni and Uto-Aztecan speakers during the late Hohokam period.

Determinations Made by the Arizona State Museum

Officials of ASM have determined that:

• Pursuant to 25 U.S.C. 3001(9), the human remains described in this notice represent the physical remains of 622 individuals of Native American ancestry.

• Pursuant to 25 U.S.C. 3001(3)(A), the 7,382 objects described in this notice are reasonably believed to have been placed with or near individual human remains at the time of death or later as part of the death rite or ceremony.

• Pursuant to 25 U.S.C. 3001(2), there is a relationship of shared group identity that can be reasonably traced between the Native American human remains and associated funerary objects and Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico.

Additional Requestors and Disposition

Lineal descendants or representatives of any Indian tribe or Native Hawaiian organization not identified in this notice that wish to request transfer of control of these human remains and associated funerary objects should submit a written request with information in support of the request to John McClelland, NAGPRA Coordinator, P.O. Box 210026, Arizona State Museum, University of Arizona, Tucson, AZ 85721, telephone (520) 626-2950, by October 10, 2014. After that date, if no additional requestors have come forward, transfer of control of the human remains and associated funerary objects to Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico may proceed.

The ASM is responsible for notifying the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico, that this notice has been published.

Dated: August 1, 2014.
Melanie O'Brien,
Acting Manager, National NAGPRA Program.

[FR Doc. 2014-21494 Filed 9-9-14; 8:45 am]

BILLING CODE 4312-50-P